COMMISSION ON CIVIL RIGHTS

Sunshine Act; Meeting

DATE AND TIME: Friday, May 5, 2006, 9:30 a.m., Commission Briefing and Meeting.

PLACE: U.S. Commission on Civil Rights, 624 Ninth Street, NW., Room 540, Washington, DC 20425.

STATUS:

Briefing Agenda

Commission Briefing: The Effectiveness of Historically Black Colleges and Universities

• Introductory Remarks by Chairman

• Speakers' Presentations

• Questions by Commissioners and Staff Director

• Annual Program Planning

CONTACT PERSON FOR FURTHER INFORMATION: Audrey Wright, Office of the Staff Director (202) 376-7700.

Kenneth L. Marcus,
Staff Director, Acting General Counsel.

[FR Doc. 06-4016 Filed 4-25-06; 11:53 am]

BILLING CODE 6335-01-M